FEDERAL COMMUNICATIONS COMMISSION

47 CFR Part 73

[DA 00-65, MM Docket No. 00-5, RM-9752]

Radio Broadcasting Services; Las Vegas and Pecos, NM

AGENCY: Federal Communications Commission.

ACTION: Proposed rule.

SUMMARY: The Commission requests comments on a petition filed by BK Radio seeking the substitution of Channel 268C3 for Channel 268A at Las Vegas, NM, the reallotment of Channel 268C3 to Pecos, NM, as the community's first local aural service, and the modification of its construction permit to specify operation on the higher class channel and Pecos as its community of license. Channel 268C3 can be allotted to Pecos in compliance with the Commission's minimum distance separation requirements with a site restriction of 9.1 kilometers (5.7 miles) east, at coordinates 35-32-54 North Latitude; 105-35-18 West Longitude, to accommodate petitioner's desired transmitter site.

DATES: Comments must be filed on or before March 6, 2000, and reply comments on or before March 21, 2000.

ADDRESSES: Federal Communications Commission, 445 12th Street, S.W., Room TW-A325, Washington, DC 20554. In addition to filing comments with the FCC, interested parties should serve the petitioner, or its counsel or consultant, as follows: Lee J. Peltzman, Shainis & Peltzman, Chartered, Suite 290, 1901 L Street, N.W., Washington, D.C. 20036 (Counsel to petitioner).

FOR FURTHER INFORMATION CONTACT: Leslie K. Shapiro, Mass Media Bureau, (202) 418-2180.

SUPPLEMENTARY INFORMATION: This is a synopsis of the Commission's Notice of Proposed Rule Making, MM Docket No. 00-5, adopted January 5, 2000, and released January 14, 2000. The full text of this Commission decision is available for inspection and copying during normal business hours in the FCC Reference Center, 445 12th Street, SW, Washington, DC. The complete text of this decision may also be purchased from the Commission's copy contractor, International Transcription Services, Inc., (202) 857-3800, 1231 20th Street, NW, Washington, DC 20036.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio broadcasting.

Federal Communications Commission.
John A. Karousos,
Chief, Allocations Branch, Policy and Rules Division, Mass Media Bureau.

[FR Doc. 00-2093 Filed 1-31-00; 8:45 am]

BILLING CODE 6712-01-U